DEPARTMENT OF DEFENSE

Department of the Air Force

U.S. Air Force Scientific Advisory Board Notice of Meeting

AGENCY: Air Force Scientific Advisory Board, Department of the Air Force, Defense.

ACTION: Meeting notice.

SUMMARY: The United States Air Force Scientific Advisory Board plans to hold its Spring Board meeting in April. This meeting will be closed to the General Public.

DATES: The meeting date is Tuesday, April 11, 2017, from 8:00 a.m. to 11:30 a.m.

ADDRESSES: 25th AF Headquarters, 2 Hall Blvd., San Antonio, TX 78243-7072.

FOR FURTHER INFORMATION CONTACT: The Scientific Advisory Board meeting organizer, Major Mike Rigoni at michael.j.rigoni.mil@mail.mil or 240-612-5506, United States Air Force Scientific Advisory Board, 1500 West Perimeter Road, Ste. #3300, Joint Base Andrews, MD 20762.

SUPPLEMENTARY INFORMATION: Under the provisions of the Federal Advisory Committee Act of 1972 (5 U.S.C., Appendix, as amended), the Government in the Sunshine Act of 1976 (5 U.S.C. 552b, as amended), and 41 CFR 102-3.150, the Department of Defense announces the United States Air Force (USAF) Scientific Advisory Board (SAB) Spring Board meeting will take place on Tuesday, 11 April 2017 at the 25th Air Force Headquarters, located at 2 Hall Blvd. Ste. 201, San Antonio, TX, 78243-7072. In accordance with 5 U.S.C. 552b, as amended, and 41 CFR 102-3.155, the meeting will be closed to the general public because the Scientific Advisory Board will discuss classified information and matters covered by Section 552b of Title 5, United States Code, subsection (c), subparagraph (1).

Any member of the public that wishes to provide input to the Air Force Scientific Advisory Board must contact the Scientific Advisory Board meeting organizer at the phone number or email address listed in this announcement at least five working days prior to the meeting date. Please ensure that you submit your written statement in accordance with 41 CFR 102-3.140(c) and section 10(a)(3) of the Federal Advisory Committee Act. Statements being submitted in response to this notice must be received by the Scientific Advisory Board meeting organizer at least five calendar days prior to the meeting commencement date. The Scientific Advisory Board meeting organizer will review all timely submissions and respond to them prior to the start of the meeting identified in this notice. Written statements received after this date may not be considered by the Scientific Advisory Board until the next scheduled meeting.

Henry Williams,
Acting Air Force Federal Register Liaison Officer.

[FR Doc. 2017-04956 Filed 3-13-17; 8:45 am]

BILLING CODE 5001-10-P